DEPARTMENT OF HOMELAND SECURITY

U.S. Citizenship and Immigration Services

[CIS No. 2575-15; DHS Docket No. USCIS-2014-0004]

RIN 1615-ZB46

Extension and Redesignation of South Sudan for Temporary Protected Status

AGENCY: U.S. Citizenship and Immigration Services, Department of Homeland Security.

ACTION: Notice.

SUMMARY: Through this Notice, the Department of Homeland Security (DHS) announces that the Secretary of Homeland Security (Secretary) is extending the designation of South Sudan for Temporary Protected Status (TPS) for 18 months, from May 3, 2016 through November 2, 2017, and redesignating South Sudan for TPS for 18 months, effective May 3, 2016 through November 2, 2017.

The extension allows currently eligible TPS beneficiaries to retain TPS through November 2, 2017, so long as they otherwise continue to meet the eligibility requirements for TPS. The redesignation of South Sudan allows additional individuals who have been continuously residing in the United States since January 25, 2016 to obtain TPS, if otherwise eligible. The Secretary determined that an extension of the current designation and a redesignation of South Sudan for TPS are warranted because the ongoing armed conflict and extraordinary and temporary conditions that prompted the 2014 TPS redesignation have persisted, and in some cases deteriorated, and would pose a serious threat to the personal safety of South Sudanese nationals if they were required to return to their country. Although the parties to the conflict signed a peace agreement in August 2015, violence persists in many parts of the country, and the implementation of the peace agreement is halting to date.

Through this Notice, DHS also sets forth procedures necessary for eligible nationals of South Sudan (or aliens having no nationality who last habitually resided in South Sudan) either to: (1) Re-register under the extension if they already have TPS and to apply for renewal of their Employment Authorization Documents (EADs) with U.S. Citizenship and Immigration Services (USCIS); or (2) submit an initial registration application under the redesignation and apply for an EAD.

For individuals who have already been granted TPS, the 60-day re-registration period runs from January 25, 2016 through March 25, 2016. USCIS will issue new EADs with a November 2, 2017, expiration date to eligible South Sudan TPS beneficiaries who timely re-register and apply for EADs under this extension. Given the timeframes involved with processing TPS re-registration applications, DHS recognizes that not all re-registrants will receive new EADs before their current EADs expire on May 2, 2016. Accordingly, through this Notice, DHS automatically extends the validity of EADs issued under the TPS designation of South Sudan for 6 months, through November 2, 2016, and explains how TPS beneficiaries and their employers may determine which EADs are automatically extended and their impact on Employment Eligibility Verification (Form I-9) and the E-Verify processes.

Under the redesignation, individuals who currently do not have TPS (or an initial TPS application pending) may submit an initial application during the 180-day initial registration period that runs from January 25, 2016 through July 25, 2016. In addition to demonstrating continuous residence in the United States since January 25, 2016 and meeting other eligibility criteria, initial applicants for TPS under this redesignation must demonstrate that they have been continuously physically present in the United States since May 3, 2016, the effective date of this redesignation of South Sudan, before USCIS may grant them TPS.

TPS initial applications that were filed under South Sudan's 2011 designation or the 2013 or 2014 redesignations and remain pending on January 25, 2016 will be treated as initial applications under this redesignation. Individuals who have a pending initial South Sudan TPS application will not need to file a new Application for Temporary Protected Status (Form I-821). DHS provides additional instructions in this Notice for individuals whose TPS applications remain pending and who would like to obtain an EAD valid through November 2, 2017.

DATES: Extension of Designation of South Sudan for TPS: The 18-month extension of the TPS designation of South Sudan is effective May 3, 2016, and will remain in effect through November 2, 2017. The 60-day re-registration period runs from January 25, 2016 through March 25, 2016. (Note: It is important for re-registrants to timely re-register during this 60-day period and not to wait until their EADs expire.)

Redesignation of South Sudan for TPS: The redesignation of South Sudan for TPS is effective May 3, 2016, and will remain in effect through November 2, 2017, a period of 18 months. The 180-day initial registration period for new applicants under the South Sudan TPS redesignation runs from January 25, 2016 through July 25, 2016.

FOR FURTHER INFORMATION CONTACT: • For further information on TPS, including guidance on the application process and additional information on eligibility, please visit the USCIS TPS Web page at http://www.uscis.gov/tps.

You can find specific information about this extension and redesignation of South Sudan for TPS by selecting “South Sudan” from the menu on the left side of the TPS Web page.

• For questions concerning this FRN, you can also contact the U.S. Citizenship and Immigration Services, Department of Homeland Security, 20 Massachusetts Avenue NW., Washington, DC 20529-2060; or by phone at (202) 272-1533 (this is not a toll-free number). Note: The phone number provided here is solely for questions regarding this TPS Notice. It is not for individual case status inquiries.

• Applicants seeking information about the status of their individual cases can check Case Status Online, available at the USCIS Web site at http://www.uscis.gov, or call the USCIS National Customer Service Center at 800-375-5283 (TTY 800-767-1833).

• Further information will also be available at local USCIS offices upon publication of this Notice.

SUPPLEMENTARY INFORMATION:

Table of Abbreviations

BIA Board of Immigration Appeals

DHS Department of Homeland Security

DOS Department of State

EAD Employment Authorization Document

FNC Final Nonconfirmation

Government U.S. Government

IJ Immigration Judge

INA Immigration and Nationality Act

OSC U.S. Department of Justice, Office of Special Counsel for Immigration-Related Unfair Employment Practices

SAVE USCIS Systematic Alien Verification for Entitlements Program

Secretary Secretary of Homeland Security

TNC Tentative Nonconfirmation

TPS Temporary Protected Status

TTY Text Telephone

UN United Nations

USCIS U.S. Citizenship and Immigration Services

What is Temporary Protected Status (TPS)?

• TPS is a temporary immigration status granted to eligible nationals of a country designated for TPS under the Immigration and Nationality Act (INA), or to eligible persons without nationality who last habitually resided in the designated country.

• During the TPS designation period, TPS beneficiaries are eligible to remain in the United States, may not be removed, and are authorized to work and obtain EADs so long as they continue to meet the requirements of TPS.

• TPS beneficiaries may also be granted travel authorization as a matter of discretion.

• The granting of TPS does not result in or lead to permanent resident status.

• To qualify for TPS, beneficiaries must meet the eligibility standards at INA section 244(c)(2), 8 U.S.C. 1254a(c)(2).

• When the Secretary terminates a country's TPS designation, beneficiaries return to the same immigration status they maintained before TPS, if any (unless that status has since expired or been terminated), or to any other lawfully obtained immigration status they received while registered for TPS.

When was South Sudan designated for TPS?

On October 13, 2011, the Secretary designated South Sudan for TPS, effective November 3, 2011, based on an ongoing armed conflict and extraordinary and temporary conditions within South Sudan. See Designation of Republic of South Sudan for Temporary Protected Status, 76 FR 63629 (Oct. 13, 2011). Following the initial designation, the Secretary has extended and redesignated South Sudan for TPS two times. Most recently, in 2014, the Secretary both extended South Sudan's designation and redesignated South Sudan for TPS for 18 months through May 2, 2016. See Extension and Redesignation of South Sudan for Temporary Protected Status, 79 FR 52019 (Sept. 2, 2014).

What authority does the Secretary have to extend the designation of South Sudan for TPS?

Section 244(b)(1) of the INA, 8 U.S.C. 1254a(b)(1), authorizes the Secretary, after consultation with appropriate agencies of the U.S. Government (Government), to designate a foreign state (or part thereof) for TPS if the Secretary determines that certain country conditions exist.¹ The Secretary may then grant TPS to eligible nationals of that foreign state (or eligible aliens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in a foreign state designated for TPS to determine whether the conditions for the TPS designation continue to be met. See INA section 244(b)(3)(A), 8 U.S.C. 1254a(b)(3)(A). If the Secretary determines that a foreign state continues to meet the conditions for TPS designation, the designation may be extended for an additional period of 6, 12, or 18 months. See INA section 244(b)(3)(C), 8 U.S.C. 1254a(b)(3)(C). If the Secretary determines that the foreign state no longer meets the conditions for TPS designation, the Secretary must terminate the designation. See INA section 244(b)(3)(B), 8 U.S.C. 1254a(b)(3)(B).

What is the Secretary's authority to redesignate South Sudan for TPS?

In addition to extending an existing TPS designation, the Secretary, after consultation with appropriate Government agencies, may redesignate a country (or part thereof) for TPS. See INA section 244(b)(1), 8 U.S.C. 1254a(b)(1); see also INA section 244(c)(1)(A)(i), 8 U.S.C. 1254a(c)(1)(A)(i) (requiring that “the alien has been continuously physically present since the effective date of the most recent designation of the state”) (emphasis added). This is one of numerous instances in which the Secretary, and prior to the establishment of DHS, the Attorney General, has simultaneously extended a country's TPS designation and redesignated the country for TPS. See, e.g., Extension and Redesignation of Syria for Temporary Protected Status, 80 FR 245 (Jan. 5, 2015); Extension and Redesignation of Sudan for Temporary Protected Status, 78 FR 1872 (Jan. 9, 2013); Extension and Redesignation of Haiti for Temporary Protected Status, 76 FR 29000 (May 19, 2011); Extension of Designation and Redesignation of Liberia Under Temporary Protected Status Program, 62 FR 16608 (Apr. 7, 1997) (discussing legal authority for redesignation of a country for TPS).

When the Secretary designates or redesignates a country for TPS, he also has the discretion to establish the date from which TPS applicants must demonstrate that they have been “continuously resid[ing]” in the United States. See INA section 244(c)(1)(A)(ii), 8 U.S.C. 1254a(c)(1)(A)(ii). This discretion permits the Secretary to tailor the “continuous residence”' date to offer TPS to the group of eligible individuals that the Secretary deems appropriate.

The Secretary has determined that the “continuous residence” date for applicants for TPS under the redesignation of South Sudan shall be January 25, 2016. Initial applicants for TPS under this redesignation must also show they have been “continuously physically present” in the United States since May 3, 2016, which is the effective date of the Secretary's redesignation of South Sudan. See INA section 244(c)(1)(A)(i), 8 U.S.C. 1254a(c)(1)(A)(i). For each initial TPS application filed under the redesignation, the final determination of whether the applicant has met the “continuous physical presence” requirement cannot be made until May 3, 2016. USCIS, however, will issue EADs, as appropriate, during the registration period in accordance with 8 CFR 244.5(b).

Why is the Secretary extending the TPS designation for South Sudan and simultaneously redesignating South Sudan for TPS through November 2, 2017?

DHS and the Department of State (DOS) have reviewed conditions in South Sudan. Based on the reviews and after consulting with DOS, the Secretary has determined that an 18-month extension and redesignation is warranted because the ongoing armed conflict and extraordinary and temporary conditions that prompted the September 2, 2014 redesignation have persisted, and in some cases deteriorated. In spite of a peace deal signed in August 2015, violence persists in many parts of South Sudan, and the peace agreement itself remains fragile. The current conditions support the expansion of TPS protection to eligible South Sudanese nationals who began residing in the United States between September 2, 2014 and January 25, 2016.

South Sudan is in the midst of a crisis involving a cycle of ethnic violence, allegations of atrocities and a humanitarian disaster of devastating scale. The armed conflict between the Government of South Sudan and opposition groups, which has affected a significant portion of the country, has been defined by ethnic lines and has been marked by brutal violence against civilians. Despite a peace agreement signed in August 2015, the security situation remains uncertain and violence persists in many areas. The humanitarian situation continues to deteriorate, resulting in widespread displacement due to the violence; high rates of death, disease, and injuries; severe food insecurity with a major malnutrition crisis; and disrupted livelihoods.

Longstanding political tensions between President Salva Kiir Mayardit, an ethnic Dinka, and former vice president, Riek Machar Teny, an ethnic Nuer, sparked an outbreak of violence in Juba in December 2013. This outbreak of violence in Juba led to fighting between Nuer and Dinka elements within the regular Sudan People's Liberation Army. Since December 2013, thousands of people have been killed, as fighting broadened and continued along ethnic lines. The violence has flared up again toward the end of April and into May 2015, and in September following the signing of the peace agreement.

South Sudan also remains embroiled in conflict along its border with Sudan. In 2015, Misseriya militias continued to attack Abyei, a disputed border area, sometimes with the backing of the Sudanese Armed Forces.

Both government and opposition forces are alleged to have committed atrocities, including against civilians. The United Nations (UN) and humanitarian actors report that during the 2015 offensive, there have been atrocities including those involving rape, the systematic murder of boys over the age of 10 and the elderly, the forced recruitment and kidnapping of children, and the wholesale destruction and burning of villages. The resulting insecurity in northern and central Unity state has forced relief organizations to withdraw staff, and as of mid-June 2015, has left more than 650,000 civilians in need of emergency support without access to humanitarian assistance.

The overall situation in South Sudan has continued to deteriorate since the civil conflict began in December 2013, with the security, rule of law and human rights situations remaining deeply compromised. South Sudan has not held elections since becoming independent in July 2011. The peace agreement calls for a transitional government to take office and elections in 2018, although the transitional government is not yet in place. The economic situation in South Sudan further contributes to its inability to protect its citizens from the ongoing conflict. Since fighting began in December 2013, economic activity outside the capital city, which was weak at best before the crisis, has all but stopped.

Humanitarian access has been constrained by security incidents against aid staff. Humanitarian workers, both foreign and national, have been targeted and killed, with no reported prosecutions. For the month of March 2015, the UN reported 64 security incidents against humanitarian actors in South Sudan, and both international and South Sudanese non-governmental organizations continue to be targets of crime and violence. Due to ongoing hostilities in Unity state, all non-governmental organizations and UN agencies evacuated staff in May 2015, bringing relief efforts in the area to a halt. Consequently, over 300,000 civilians in need of emergency relief, including food aid and medical services were cut off from life-saving assistance. Violence in Unity state persists in spite of the peace agreement.

According to the UN, over half of the country's 12 million people are in need of aid. The ongoing conflict has caused a continuous flow of internally displaced persons and refugees. The UN High Commissioner for Refugees estimates that as of November 2015, approximately 644,000 people have fled South Sudan as a direct result of the ongoing conflict and related food insecurity, in addition to more than 1.6 million South Sudanese who have been internally displaced. These figures are expected to grow even after the signing of the peace agreement. Estimates of the number of people in need of shelter for 2015 include an anticipated 1.95 million internally displaced persons and a projected 293,000 refugees.

Based upon this review and after consultation with appropriate Government agencies, the Secretary has determined that:

• The conditions that prompted the 2014 redesignation of South Sudan for TPS continue to be met. See INA section 244(b)(3)(A) and (C), 8 U.S.C. 1254a(b)(3)(A) and (C).

• There continues to be an ongoing armed conflict in South Sudan and, due to such conflict, requiring the return of South Sudanese nationals (or aliens having no nationality who last habitually resided in South Sudan) to South Sudan would pose a serious threat to their personal safety. See INA section 244(b)(1)(A), 8 U.S.C. 1254a(b)(1)(A).

• There continue to be extraordinary and temporary conditions in South Sudan that prevent South Sudanese nationals (or aliens having no nationality who last habitually resided in South Sudan) from returning to South Sudan in safety. See INA section 244(b)(1)(C), 8 U.S.C. 1254a(b)(1)(C).

• It is not contrary to the national interest of the United States to permit South Sudanese (or aliens having no nationality who last habitually resided in South Sudan) who meet the eligibility requirements of TPS to remain in the United States temporarily. See INA section 244(b)(1)(C), 8 U.S.C. 1254a(b)(1)(C).

• The designation of South Sudan for TPS should be extended for an 18-month period from May 3, 2016 through November 2, 2017. See INA section 244(b)(3)(C), 8 U.S.C. 1254a(b)(3)(C).

• Based on current country conditions, South Sudan should be simultaneously redesignated for TPS effective May 3, 2016 through November 2, 2017. See INA sections 244(b)(1)(A), (b)(1)(C), and (b)(2); 8 U.S.C. 1254a(b)(1)(A), (b)(1)(C), and (b)(2).

• TPS applicants must demonstrate that they have continuously resided in the United States since January 25, 2016.

• The date by which TPS applicants must demonstrate that they have been continuously physically present in the United States is May 3, 2016, the effective date of the redesignation of South Sudan for TPS.

• There are approximately 50 current South Sudan TPS beneficiaries who are expected to file for re-registration under the extension.

• It is estimated that an additional 25-150 nationals of South Sudan (and persons without nationality who last habitually resided in South Sudan) may be eligible for TPS under the redesignation of South Sudan. This estimate is based on the total number of South Sudanese nationals believed to be in the United States in a nonimmigrant status or without lawful immigration status.

Notice of Extension of the TPS Designation of South Sudan

By the authority vested in me as Secretary under INA section 244, 8 U.S.C. 1254a, I have determined, after consultation with the appropriate Government agencies, that the conditions that prompted the redesignation of TPS for South Sudan in 2014 not only continue to be met, but have significantly deteriorated. See INA section 244(b)(3)(A), 8 U.S.C. 1254a(b)(3)(A). On the basis of this determination, I am simultaneously extending the existing designation of TPS for South Sudan for 18 months, from May 3, 2016 through November 2, 2017, and redesignating South Sudan for TPS for the same 18-month period. See INA section 244(b)(1)(A), (b)(1)(C), and (b)(2); 8 U.S.C. 1254a(b)(1)(A), (b)(1)(C), and (b)(2). I have also determined that eligible individuals must demonstrate that they have continuously resided in the United States since January 25, 2016. See INA section 244(c)(1)(A)(ii), 8 U.S.C. 1254a(c)(1)(A)(ii).

Jeh Charles Johnson,
Secretary.

I am currently a South Sudan TPS beneficiary. What should I do?

If you have been granted TPS under South Sudan's designation, then you must re-register under the extension if you wish to maintain TPS benefits through November 2, 2017. You must use the Application for Temporary Protected Status (Form I-821) to re-register for TPS. The 60-day open re-registration period will run from January 25, 2016 through March 25, 2016.

I have a pending initial TPS application filed during the South Sudan TPS registration period that ran from September 2, 2014 through March 2, 2015. What should I do?

If your TPS application is still pending on January 25, 2016, then you do not need to file a new Application for Temporary Protected Status (Form I-821). Pending TPS applications will be treated as initial applications under this re-designation. Therefore, if your TPS application is approved, you will be granted TPS through November 2, 2017. If you have a pending TPS application and you wish to have an EAD valid through November 2, 2017, please refer to Table 1 to determine whether you should file a new Application for Employment Authorization (Form I-765).

Table 1—Form and EAD Information for Pending TPS Applications
If. . . | And. . . | Then. . .
You requested an EAD during the previous initial registration period for South Sudan TPS | You received an EAD with Category C-19 or A-12 | You must file a new Application for Employment Authorization (Form I-765) with fee (or fee waiver request) if you wish to have a new EAD valid through November 2, 2017.
| You did not receive an EAD with Category C-19 or A-12 | You do not need to file a new Application for Employment Authorization (Form I-765). If your TPS application is approved, your Application for Employment Authorization (Form I-765) will be approved through November 2, 2017.
You did not request an EAD during the previous initial registration period for South Sudan TPS | You wish to have an EAD valid through November 2, 2017 | You must file a new Application for Employment Authorization (Form I-765) with fee (or fee waiver request).
| You do not wish to have an EAD valid through November 2, 2017 | You do not need to file a new Application for Employment Authorization (Form I-765).

I am not a TPS beneficiary, and I do not have a TPS application pending. What are the procedures for initial registration for TPS under the South Sudan redesignation?

If you are not a South Sudan TPS beneficiary or do not have a pending TPS application with USCIS, you may submit your TPS application during the 180-day initial registration period that will run from January 25, 2016 through July 25, 2016.

Required Application Forms and Application Fees To Register or Re-register for TPS

To register or re-register for TPS based on the designation of South Sudan, you must submit each of the following applications:

1. Application for Temporary Protected Status (Form I-821).

• If you are filing an initial application, you must pay the fee for the Application for Temporary Protected Status (Form I-821). See 8 CFR 244.2(f)(2) and 244.6.

• If you are filing an application for re-registration, you do not need to pay the fee for the Application for Temporary Protected Status (Form I-821). See 8 CFR 244.17.

2. Application for Employment Authorization (Form I-765).

• If you are applying for initial registration and want an EAD, you must pay the fee for the Application for Employment Authorization (Form I-765) only if you are age 14 through 65. You do not need to pay the Application for Employment Authorization (Form I-765) fee if you are under the age of 14 or are 66 and older, applying for late initial registration and you want an EAD.

• If you are applying for re-registration, you must pay the fee for the Application for Employment Authorization (Form I-765), regardless of your age, if you want an EAD.

• You do not pay the fee for the Application for Employment Authorization (Form I-765) if you are not requesting an EAD, regardless of whether you are applying for initial registration or re-registration.

You must submit both completed application forms together. If you are unable to pay for the application fee and/or biometrics fee, you may complete a Request for Fee Waiver (Form I-912) or submit a personal letter requesting a fee waiver with satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b).

Biometric Services Fee

Biometrics (such as fingerprints) are required for all applicants 14 years and older. Those applicants must submit a biometric services fee. As previously stated, if you are unable to pay for the biometric services fee, you may complete a Request for Fee Waiver (Form I-912) or submit a personal letter requesting a fee waiver with satisfactory supporting documentation. For more information on the biometric services fee, please visit the USCIS Web site at http://www.uscis.gov. If necessary, you may be required to visit an Application Support Center to have your biometrics captured.

Refiling an Initial TPS Application After Receiving a Denial of a Fee Waiver Request

If you request a fee waiver when filing your initial TPS application package and your request is denied, you may re-file your application packet before the initial filing deadline of July 25, 2016. If you attempt to submit your application with a fee waiver request before that deadline, and receive your application back with the USCIS fee waiver denial, and there are fewer than 45 days before the filing deadline (or the deadline has passed), you may still re-file your application within the 45-day period after the date on the USCIS fee waiver denial notice. You must include the correct fees or file a new fee waiver request. Your application will not be rejected even if the filing deadline has passed, provided it is mailed within those 45 days and all other required information for the application is included. Please be aware that if you re-file your TPS application packet with a new fee waiver request after the deadline and that your new fee waiver request is denied, you cannot refile again. Note: Alternatively, you may pay the TPS application fee and biometrics fee (if you are age 14 or older) but wait to request an EAD and pay the Application for Employment Authorization (Form I-765) application fee after USCIS grants your TPS application, if you are eligible.

Re-Filing a Re-Registration TPS Application After Receiving a Denial of a Fee Waiver Request

You should re-register as soon as possible within the 60-day period so that USCIS can process your application and issue any EAD promptly. Filing early will also allow you time to re-file your application before the deadline, should USCIS deny your fee waiver request. If, however, you receive a denial of your fee waiver request and you are unable to re-file by the re-registration deadline, you may still re-file your application. This situation will be reviewed to determine whether you have established good cause for late re-registration. However, you are urged to re-file within 45 days of the date on any USCIS fee waiver denial notice, if at all possible. See INA section 244(c)(3)(C); 8 U.S.C. 1254a(c)(3)(C); 8 CFR 244.17(c). For more information on good cause for late re-registration, visit the USCIS TPS Web page at http://www.uscis.gov/tps. Note: Although a re-registering TPS beneficiary age 14 and older must pay the biometric services fee (but not the initial TPS application fee) when filing a TPS re-registration application, you may decide to wait to request an EAD, and therefore not pay the Application for Employment Authorization (Form I-765) fee until after USCIS has approved your TPS re-registration, if you are eligible. If you choose to do this, you would file the Application for Temporary Protected Status (Form I-821) with the fee and the Application for Employment Authorization (Form I-765) without the fee and without requesting an EAD.

Mailing Information

Mail your application for TPS to the proper address in Table 1.

Table 1—Mailing Addresses
If. . . | Mail to. . .
You are applying through the U.S. Postal Service | USCIS, Attn: TPS South Sudan, P.O. Box 6943, Chicago, IL 60680-6943.
You are using a non-U.S. Postal Service delivery service | USCIS, Attn: TPS South Sudan, 131 S. Dearborn Street, 3rd Floor, Chicago, IL 60603-5517.

If you were granted TPS by an Immigration Judge (IJ) or the Board of Immigration Appeals (BIA) and wish to request an EAD or are re-registering for the first time following a grant of TPS by an IJ or the BIA, please mail your application to the appropriate mailing address in Table 1. When submitting a re-registration and/or requesting an EAD based on an IJ/BIA grant of TPS, Please include a copy of the IJ or BIA order granting you TPS with your application. This will aid in the verification of your grant of TPS and processing of your application, as USCIS may not have received records of your grant of TPS by either the IJ or the BIA.

E-Filing

You cannot electronically file your application when re-registering or submitting an initial registration for South Sudan TPS. Please mail your application to the mailing address listed in Table 1.

Supporting Documents

What type of basic supporting documentation must I submit with my initial TPS application?

To meet the basic eligibility requirements for TPS, you must submit evidence that you:

• Are a national of South Sudan or an alien having no nationality who last habitually resided in South Sudan. Documents may include a copy of your passport if available, other documentation issued by the Government of South Sudan showing your nationality (such as a national identity card or official travel documentation issued by the Government of South Sudan), and/or your birth certificate with English translation accompanied by photo identification. USCIS will also consider certain forms of secondary evidence supporting your South Sudan nationality. If the evidence presented is insufficient for USCIS to make a determination as to your nationality, USCIS may request additional evidence. If you cannot provide a passport, birth certificate with photo identification, or a national identity document with your photo or fingerprint, you must submit an affidavit showing proof of your unsuccessful efforts to obtain such documents and affirming that you are a national of South Sudan. However, please be aware that an interview with an immigration officer will be required if you do not present any documentary proof of identity or nationality or if USCIS otherwise requests a personal appearance. See 8 CFR 103.2(b)(9), 244.9(a)(1);

• Have continuously resided in the United States since January 25, 2016. See INA section 244(c)(1)(A)(ii); 8 U.S.C. 1254a(c)(1)(A)(ii); 8 CFR 244.9(a)(2); and

• Have been continuously physically present in the United States since May 3, 2016, the effective date of the redesignation of South Sudan for TPS. See INA sections 244(b)(2)(A), (c)(1)(A)(i); 8 U.S.C. 1254a(b)(2)(A), (c)(1)(A)(i).

You must also submit two color passport-style photographs of yourself. The filing instructions on the Application for Temporary Protected Status (Form I-821) list all the documents needed to establish basic eligibility for TPS. You may also find information on the acceptable documentation and other requirements for applying for TPS on the USCIS Web site at www.uscis.gov/tps under “South Sudan.”

Do I need to submit additional supporting documentation when filing an initial TPS registration or reregistering for TPS?

If one or more of the questions listed in Part 4, Question 2 of the Application for Temporary Protected Status (Form I-821) applies to you, then you must submit an explanation on a separate sheet(s) of paper and/or additional documentation.

Employment Authorization Document (EAD)

How can I get information on the status of my EAD request?

To get case status information about your TPS application, including the status of a request for an EAD, you can check Case Status Online, available at http://www.uscis.gov, or call the USCIS National Customer Service Center at 800-375-5283 (TTY 800-767-1833). If your Application for Employment Authorization (Form I-765) has been pending for more than 90 days, and you still need assistance, you may request an EAD inquiry appointment with USCIS by using the InfoPass system at https://infopass.uscis.gov. However, we strongly encourage you first to check Case Status Online or call the USCIS National Customer Service Center for assistance before making an InfoPass appointment.

Am I eligible to receive an automatic 6-month extension of my current EAD through November 2, 2016?

Provided that you currently have TPS under the designation of South Sudan, this Notice automatically extends your EAD by 6 months if you:

• Are a national of South Sudan (or an alien having no nationality who last habitually resided in South Sudan);

• Received an EAD under the last extension of TPS for South Sudan; and

• Have an EAD with a marked expiration date of May 2, 2016, bearing the notation “A-12” or “C-19” on the face of the card under “Category.”

Although this Notice automatically extends your EAD through November 2, 2016, you must re-register timely for TPS in accordance with the procedures described in this Notice if you would like to maintain your TPS.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of being hired, you must present proof of identity and employment authorization to your employer.

You may present any document from List A (reflecting both your identity and employment authorization) or one document from List B (reflecting identity) together with one document from List C (reflecting employment authorization). An EAD is an acceptable document under “List A.” You may present an acceptable receipt for List A, List B, or List C documents as described in the Form I-9 Instructions. An acceptable receipt is one that shows an employee has applied to replace a document that was lost, stolen or damaged. If you present this receipt, you must present your employer with the actual document within 90 days. Employers may not reject a document based on a future expiration date.

If your EAD has an expiration date of May 2, 2016, and states “A-12” or “C-19” under “Category,” it has been extended automatically for 6 months by virtue of this Federal Register Notice, and you may choose to present your EAD to your employer as proof of identity and employment authorization for Employment Eligibility Verification (Form I-9) through November 2, 2016 (see the subsection titled “How do my employer and I complete the Employment Eligibility Verification (Form I-9) using an automatically extended EAD for a new job?” for further information). To minimize confusion over this extension at the time of hire, you should explain to your employer that USCIS has automatically extended your EAD through November 2, 2016, based on your Temporary Protected Status. You are also strongly encouraged, although not required, to show your employer a copy of this Federal Register Notice confirming the automatic extension of employment authorization through November 2, 2016. As an alternative to presenting your automatically extended EAD, you may choose to present any other acceptable document from List A, or a combination of one selection from List B and one selection from List C.

What documentation may I show my employer if I am already employed but my current TPS-related EAD is set to expire?

Even though EADs with an expiration date of May 2, 2016, that state “A-12” or “C-19” under “Category” have been automatically extended for 6 months by this Federal Register Notice, your employer will need to ask you about your continued employment authorization once May 2, 2016, is reached to meet its responsibilities for Employment Eligibility Verification (Form I-9). Your employer does not need to complete a new Form I-9 to reverify your employment authorization until November 2, 2016, the expiration date of the automatic extension, but may need to reinspect your automatically extended EAD to check the expiration date and code in order to record the updated expiration date on your Form I-9 if your employer did not keep a copy of this EAD at the time you initially presented it. You and your employer must make corrections to the employment authorization expiration dates in Section 1 and Section 2 of Employment Eligibility Verification (Form I-9) (see the subsection titled “What corrections should my current employer and I make to Employment Eligibility Verification (Form I-9) if my EAD has been automatically extended?” for further information). You are also strongly encouraged, although not required, to show this Federal Register Notice to your employer to explain what to do for Employment Eligibility Verification (Form I-9).

By November 2, 2016, the expiration date of the automatic extension, your employer must reverify your employment authorization. At that time, you must present any unexpired document from List A or any unexpired document from List C on Employment Eligibility Verification (Form I-9) to reverify employment authorization, or an acceptable List A or List C receipt described in the Form I-9 instructions. Your employer is required to reverify on Employment Eligibility Verification (Form I-9) the employment authorization of current employees upon the automatically extended expiration date of a TPS-related EAD, which is November 2, 2016, in this case. Your employer should use either Section 3 of the Employment Eligibility Verification (Form I-9) originally completed for the employee or, if this section has already been completed or if the version of Employment Eligibility Verification (Form I-9) is no longer valid, complete Section 3 of a new Employment Eligibility Verification (Form I-9) using the most current version. Note that your employer may not specify which List A or List C document employees must present, and cannot reject an acceptable receipt. An acceptable receipt is one that shows an employee has applied to replace a document that was lost, stolen or damaged.

Can my employer require that I produce any other documentation to prove my current TPS status, such as proof of my South Sudanese citizenship or proof that I have re-registered for TPS?

No. When completing Employment Eligibility Verification (Form I-9), including reverifying employment authorization, employers must accept any documentation that appears on the “Lists of Acceptable Documents” for Employment Eligibility Verification (Form I-9) that reasonably appears to be genuine and that relates to you or an acceptable List A, List B, or List C receipt. Employers may not request documentation that does not appear on the “Lists of Acceptable Documents.” Therefore, employers may not request proof of South Sudanese citizenship or proof of re-registration for TPS when completing Employment Eligibility Verification (Form I-9) for new hires or reverifying the employment authorization of current employees. Refer to the “Note to Employees” section of this Notice for important information about your rights if your employer rejects lawful documentation, requires additional documentation, or otherwise discriminates against you based on your citizenship or immigration status, or your national origin. Note that although you are not required to provide your employer with a copy of this Federal Register Notice, you are strongly encouraged to do so to help avoid confusion.

What happens after November 2, 2016, for purposes of employment authorization?

After November 2, 2016, employers may no longer accept the EADs that this Federal Register Notice automatically extended. Before that time, however, USCIS will work to issue new EADs to eligible TPS re-registrants who request them. These new EADs should have an expiration date of November 2, 2017, and can be presented to your employer for completion of Employment Eligibility Verification (Form I-9). Alternatively, you may choose to present any other legally acceptable document or combination of documents listed on the Employment Eligibility Verification (Form I-9).

How do my employer and I complete Employment Eligibility Verification (Form I-9) using an automatically extended EAD for a new job?

When using an automatically extended EAD to complete Employment Eligibility Verification (Form I-9) for a new job before November 2, 2016, you and your employer should do the following:

1. For Section 1, you should:

a. Check “An alien authorized to work;”

b. Write the automatically extended EAD expiration date (November 2, 2016) in the first space; and

c. Write your alien number (USCIS number or A-number) in the second space (your EAD or other document from DHS will have your USCIS number or A-number printed on it; the USCIS number is the same as your A-number without the A prefix).

2. For Section 2, employers should record the:

a. Document title;

b. Issuing authority;

c. Document number; and

d. Automatically extended EAD expiration date (November 2, 2016).

By November 2, 2016, employers must reverify the employee's employment authorization in Section 3 of the Employment Eligibility Verification (Form I-9).

What corrections should my current employer and I make to Employment Eligibility Verification (Form I-9) if my EAD has been automatically extended?

If you are an existing employee who presented a TPS-related EAD that was valid when you first started your job but that EAD has now been automatically extended, your employer may reinspect your automatically extended EAD if the employer does not have a photocopy of the EAD on file, and you and your employer should correct your previously completed Employment Eligibility Verification (Form I-9) as follows:

1. For Section 1, you should:

a. Draw a line through the expiration date in the first space;

b. Write “November 2, 2016” above the previous date;

c. Write “TPS Ext.” in the margin of Section 1; and

d. Initial and date the correction in the margin of Section 1.

2. For Section 2, employers should:

a. Draw a line through the expiration date written in Section 2;

b. Write “November 2, 2016” above the previous date;

c. Write “EAD Ext.” in the margin of Section 2; and

d. Initial and date the correction in the margin of Section 2.

By November 2, 2016, when the automatic extension of EADs expires, employers must reverify the employee's employment authorization in Section 3.

If I am an employer enrolled in E-Verify, what do I do when I receive a “Work Authorization Documents Expiration” alert for an automatically extended EAD?

If you are an employer who participates in E-Verify and you have an employee who is a TPS beneficiary who provided a TPS-related EAD when he or she first started working for you, you will receive a “Work Authorization Documents Expiring” case alert when this EAD is about to expire. Usually, this message is an alert to complete Section 3 of the Employment Eligibility Verification (Form I-9) to reverify an employee's employment authorization. For existing employees with TPS-related EADs that have been automatically extended, employers should dismiss this alert by clicking the red “X” in the “dismiss alert” column and follow the instructions above explaining how to correct the Employment Eligibility Verification (Form I-9). By November 2, 2016, employment authorization must be reverified in Section 3. Employers should never use E-Verify for reverification.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or at I-9Central@dhs.gov. Calls and emails are accepted in English and many other languages. For questions about avoiding discrimination during the employment eligibility verification process, employers may also call the U.S. Department of Justice, Office of Special Counsel for Immigration-Related Unfair Employment Practices (OSC) Employer Hotline, at 800-255-8155 (TTY 800-237-2515), which offers language interpretation in numerous languages, or email OSC at osccrt@usdoj.gov.

Note to Employees

For general questions about the employment eligibility verification process, you may call USCIS at 888-897-7781 (TTY 877-875-6028) or email at I-9Central@dhs.gov. Calls are accepted in English and many other languages. You may also call the OSC Worker Information Hotline at 800-255-7688 (TTY 800-237-2515) for information regarding employment discrimination based upon citizenship status, immigration status, or national origin, or for information regarding discrimination related to Employment Eligibility Verification (Form I-9) and E-Verify. The OSC Worker Information Hotline provides language interpretation in numerous languages.

To comply with the law, employers must accept any document or combination of documents from the Lists of Acceptable Documents if the documentation reasonably appears to be genuine and to relate to the employee, or an acceptable List A, List B, or List C receipt described in the Employment Eligibility Verification (Form I-9) Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from Federal or state government records.

Employers may not terminate, suspend, delay training, withhold pay, lower pay, or take any adverse action against you based on your decision to contest a TNC or because your case is still pending with E-Verify. A Final Nonconfirmation (FNC) case result is received when E-Verify cannot verify your employment eligibility. An employer may terminate employment based on a case result of FNC. Work-authorized employees who receive an FNC may call USCIS for assistance at 888-897-7781 (TTY 877-875-6028). If you believe you were discriminated against by an employer in the E-Verify process based on citizenship or immigration status or based on national origin, you may contact OSC's Worker Information Hotline at 800-255-7688 (TTY 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal Government agencies must follow the guidelines laid out by the Federal Government, State and local government agencies establish their own rules and guidelines when granting certain benefits. Each State may have different laws, requirements, and determinations about what documents you need to provide to prove eligibility for certain benefits. Whether you are applying for a Federal, State, or local government benefit, you may need to provide the government agency with documents that show you are a TPS beneficiary and/or show you are authorized to work based on TPS. Examples are:

(1) Your unexpired EAD;

(2) A copy of this Federal Register Notice if your EAD is automatically extended under this Notice;

(3) A copy of your Application for Temporary Protected Status Notice of Action (Form I-797) for this re-registration;

(4) A copy of your past or current Application for Temporary Protected Status Approval Notice (Form I-797), if you received one from USCIS; and/or

(5) If there is an automatic extension of work authorization, a copy of the fact sheet from the USCIS TPS Web site that provides information on the automatic extension.

Check with the government agency regarding which document(s) the agency will accept. You may also provide the agency with a copy of this Federal Register Notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found at the SAVE Web site at http://www.uscis.gov/save, then by choosing “How to Correct Your Records” from the menu on the right.

[FR Doc. 2016-01388 Filed 1-22-16; 8:45 am]

BILLING CODE 9111-97-P